POSTAL SERVICE

39 CFR Part 111

Retirement of FASTforward Technology

AGENCY: Postal Service™.

ACTION: Proposed rule.

SUMMARY: The Postal Service proposes to revise the Mailing Standards of the United States Postal Service, Domestic Mail Manual (DMM®) 602.5.0 to terminate the use of FASTforward® technology as a Move Update option for commercial First-Class Mail®, First-Class Package Service™, Standard Mail®, and Parcel Select Lightweight™ mailings.

DATES: We must receive comments on or before October 4, 2012.

ADDRESSES: Mail or deliver written comments to the Manager, Product Classification, U.S. Postal Service, 475 L'Enfant Plaza SW., Room 4446, Washington DC 20260-5015. You may inspect and photocopy all written comments at USPS® Headquarters Library, 475 L'Enfant Plaza SW., 11th Floor N, Washington DC by appointment only between the hours of 9 a.m. and 4 p.m., Monday through Friday by calling 1-202-268-2906 in advance. Email comments, containing the name and address of the commenter, may be sent to: MailingStandards@usps.gov, with a subject line of “FASTforward Discontinuation” Faxed comments are not accepted.

FOR FURTHER INFORMATION CONTACT: Charles Hunt at 901-681-4651, or Bill Chatfield at 202-268-7278.

SUPPLEMENTARY INFORMATION: FASTforward, a licensed hardware/software change-of-address system, was developed in 1996 to enable Multi-Line Optical Character Reader (MLOCR) users a means to meet the Move Update requirement for their commercial mailings. Using the best technology then available, most of the FASTforward “black boxes” were 386/486 processors using secured cards and cabling operations. By 2009, many of the original black boxes were failing, and finding replacement parts became difficult. In February 2009, the USPS™ announced its intention to retire the FASTforward system by the end of FY2012 and migrate the licensees to the newer, more robust NCOALink® MPE (Mail Processing Equipment) licensed software system.

In August 2011, the USPS established an ad hoc workgroup consisting of postal personnel, MLOCR manufacturers, mailers, and representatives of the National Association of Presort Mailers (NAPM). The workgroup has worked to resolve all issues, enabling a smooth migration from the antiquated FASTforward system to the newer NCOALink MPE system.

NCOALink MPE licensees will have the option of upgrading their agreement to provide an electronic list of COA information to the mail owner, in addition to directly applying new addresses on mailpieces. However, use of the NCOALink MPE process to apply updated addresses on mailpieces will suffice by itself to meet the Move Update standard.

The Postal Service recognizes that not all affected mailers may have been able to participate in the workgroup. Also, the fees for use of NCOALink MPE system may be higher for some mailers than the fees for FASTforward. Therefore, the Postal Service invites comments on the proposal by means of this notice. The termination date for FASTforward would be January 27, 2013. Mailers may begin to use the NCOALink MPE system at any time as a method of meeting the Move Update standards.

The Postal Service accordingly proposes the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM):

Mailing Standards of the United States Postal Service, Domestic Mail Manual (DMM):

* * * * *

500 Additional Mailing Services

* * * * *

507 Mailer Services

* * * * *

4.0 Address Correction Services

* * * * *

[Delete current 4.3, FASTforward, in its entirety.]

[Renumber current 4.4 as new 4.3.]

* * * * *

600 Basic Standards for All Mailing Services

* * * * *

602 Addressing

* * * * *

5.0 Move Update Standards

* * * * *

5.2 USPS-Approved Methods

The following methods are authorized for meeting the Move Update standard:

* * * * *

[Revise item 5.2b as follows:]

b. National Change of Address Linkage System (NCOALink). This includes both pre-mail NCOALink processing systems and the physical mailpiece processing equipment system: National Change of Address Linkage System Mail Processing Equipment (NCOALink MPE). See the NCOALink page (NCOALink MPE Solutions) on ribbs.usps.gov for more information on the MPE application.

[Delete item 5.2c in its entirety and redesignate current items 5.2d and 5.2e as new 5.2c and 5.2d respectively.]

* * * * *

We will publish an appropriate amendment to 39 CFR part 111 to reflect these changes if our proposal is adopted.

Stanley F. Mires,
Attorney, Legal Policy and Legislative Advice.

[FR Doc. 2012-21738 Filed 8-31-12; 8:45 am]

BILLING CODE 7710-12-P